ENVIRONMENTAL PROTECTION AGENCY

40 CFR Part 80

[FRL-7122-1]

RIN 2060-AJ76

Prohibition on Gasoline Containing Lead or Lead Additives for Highway Use: Fuel Inlet Restrictor Exemption for Motorcycles

AGENCY: Environmental Protection Agency (EPA).

ACTION: Withdrawal of direct final rule.

SUMMARY: EPA published a direct final rule on October 31, 2001 that exempts motorcycles with emission control devices that could be affected by the use of leaded gasoline from having to be equipped with gasoline tank filler inlet restrictors. However, we received an adverse comment during the 30 day comment period and are now withdrawing that direct final rule.

DATES: As of December 27, 2001, EPA withdraws the direct final rule published at 66 FR 54955, on October 31, 2001.

FOR FURTHER INFORMATION CONTACT: Richard Babst at (202) 564-9473.

SUPPLEMENTARY INFORMATION: Because EPA received adverse comment, we are withdrawing the direct final rule for “Prohibition on Gasoline Containing Lead or Lead Additives for Highway Use: Fuel Inlet Restrictor Exemption For Motorcycles.” We published the direct final rule on October 31, 2001 (66 FR 54955), that exempts motorcycles with emission control devices that could be affected by the use of leaded gasoline from having to be equipped with gasoline tank filler inlet restrictors. We stated in that Federal Register document that if we received adverse comment by November 30, 2001, we would publish a timely notice of withdrawal in the Federal Register. We subsequently received adverse comment on that direct final rule. We will address the comment in a subsequent final action based on the parallel proposal also published on October 31, 2001 (66 FR 54965). As stated in the parallel proposal, we will not institute a second comment period on this action.

Dated: December 19, 2001.
Jeffrey R. Holmstead,
Assistant Administrator for Office of Air and Radiation.

[FR Doc. 01-31797 Filed 12-26-01; 8:45 am]

BILLING CODE 6560-50-P